CONSUMER PRODUCT SAFETY COMMISSION

Sunshine Act Meetings

Time and Date: Tuesday, February 16, 2010, 2 p.m.-4 p.m.

Place: Hearing Room 420, Bethesda Towers, 4330 East West Highway, Bethesda, Maryland.

Status: Commission Meeting—Open to the Public.

Matters to be Considered: 1. Unblockable Drains/Public Accommodations—Virginia Graeme Baker Pool and Spa Safety Act/Minimum State Requirements for Grants.

A live webcast of the Meeting can be viewed at http://www.cpsc.gov/webcast/index.html.

For a recorded message containing the latest agenda information, call (301) 504-7948.

Contact Person for More Information: Todd A. Stevenson, Office of the Secretary, U.S. Consumer Product Safety Commission, 4330 East West Highway, Bethesda, MD 20814 (301) 504-7923.

Dated: February 12, 2010.
Todd A. Stevenson,
Secretary.

[FR Doc. 2010-3323 Filed 2-22-10; 8:45 am]

BILLING CODE 6355-01-M